DEPARTMENT OF THE INTERIOR

National Park Service

Notice of Inventory Completion: U.S. Department of Agriculture, Forest Service, Los Padres National Forest, Goleta, CA, and Santa Barbara Museum of Natural History, Santa Barbara, CA

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Los Padres National Forest, Goleta, CA, and in the possession of the Santa Barbara Museum of Natural History, Santa Barbara, CA. The human remains and associated funerary objects were removed from the Sunset Valley Site, Santa Barbara County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Santa Barbara Museum of Natural History and Los Padres National Forest professional staff in consultation with representatives of the Santa Ynez Band of Chumash Indians of the Santa Ynez Reservation, California.

In 1935, human remains representing a minimum of seven individuals were removed from the Sunset Valley Site in Santa Barbara County, CA, by Milton Snow and David Banks Rogers of the Santa Barbara Museum of Natural History, as part of archeological investigations authorized by the Forest Service. The human remains were curated at the Santa Barbara Museum of Natural History. No known individuals were identified. The approximately 48 associated funerary objects are shell and bone ornaments, glass bead, shell fish hooks, eagle claws, stone vessels and tools, a projectile point, and pieces of pigment.

The Sunset Valley Site consists of a large midden with possible habitation structures. The site was probably occupied in the early historic/mission period in California (A.D. 1769-1823).

Based on the composition of the artifactual collection, site organization, the location of the site in the heart of the aboriginal lands of the Chumash and the probability that the site is one of the named Chumash villages, officials of the Los Padres National Forest have determined that the human remains and associated funerary objects from the Sunset Valley Site are culturally affiliated with the Santa Ynez Band of Chumash Indians of the Santa Ynez Reservation, California. Oral traditions provided by representatives of the Santa Ynez Band of Chumash Indians of the Santa Ynez Reservation, California support cultural affiliation.

Officials of the Los Padres National Forest have determined that, pursuant to 25 U.S.C. 3001 (9-10), the human remains described above represent the physical remains of seven individuals of Native American ancestry. Officials of the Los Padres National Forest also have determined that, pursuant to 25 U.S.C. 3001 (3)(A), the approximately 48 objects described above are reasonably believed to have been placed with or near individual human remains at the time of death or later as part of the death rite or ceremony. Lastly, officials of the Los Padres National Forest have determined that, pursuant to 25 U.S.C. 3001 (2), there is a relationship of shared group identity that can be reasonably traced between the Native American human remains and associated funerary objects and the Santa Ynez Band of Chumash Indians of the Santa Ynez Reservation, California.

Representatives of any other Indian tribe that believes itself to be culturally affiliated with the human remains and associated funerary objects should contact Joan Brandoff-Kerr, Forest Archaeologist, Los Padres National Forest, Suite 150, 6755 Hollister Avenue, Goleta, CA 93117, telephone (805) 967-3481, ext. 215, before July 17, 2008. Repatriation of the human remains and associated funerary objects to the Santa Ynez Band of Chumash Indians of the Santa Ynez Reservation, California may proceed after that date if no additional claimants come forward.

Los Padres National Forest is responsible for notifying the Santa Ynez Band of Chumash Indians of the Santa Ynez Reservation, California that this notice has been published.

Dated: May 21, 2008.
Sherry Hutt,
Manager, National NAGPRA Program.

[FR Doc. E8-13604 Filed 6-16-08; 8:45 am]

BILLING CODE 4312-50-S